ENVIRONMENTAL PROTECTION AGENCY

[FRL-7578-7]

Meeting of the Ozone Transport Commission

AGENCY: Environmental Protection Agency.

ACTION: Notice of meeting.

SUMMARY: The United States Environmental Protection Agency is announcing the 2003 Fall Meeting of the Ozone Transport Commission (OTC). This meeting will explore options available for reducing ground-level ozone precursors in a multi-pollutant context—particularly from the transportation sector.

DATES: The meeting will be held on November 12, 2003 starting at 1 p.m. (EST), and November 13, 2003 starting at 8:30 a.m. (EST).

ADDRESSES: Ramada Plaza Resort Oceanfront, 5700 Atlantic Avenue, Virginia Beach, VA 23451; (757) 428-7025.

FOR FURTHER INFORMATION CONTACT: Judith M. Katz, U.S. Environmental Protection Agency, Region III, 1650 Arch Street, Philadelphia, PA 19103; (215) 814-2100. For Documents and Press Inquiries Contact: Ozone Transport Commission, 444 North Capitol Street NW., Suite 638, Washington, DC 20001; (202) 508-3840; e-mail: ozone@otcair.org; Web site: http://www.otcair.org.

SUPPLEMENTARY INFORMATION: The Clean Air Act Amendments of 1990 contain at section 184 provisions for the “Control of Interstate Ozone Air Pollution.” Section 184(a) establishes an “Ozone Transport Region” (OTR) Hampshire, New Jersey, New York, Pennsylvania, Rhode Island, Vermont, parts of Virginia and the District of Columbia. The purpose of the Ozone Transport Commission is to deal with ground level ozone formation, transport, and control within the OTR. The purpose of this notice is to announce that the OTC will meet on November 12-13, 2003 at the address noted earlier in this notice. This meeting will explore options available for reducing ground-level ozone precursors in a multi-pollutant context—particularly from the transportation sector. Section 176A(b)(2) of the Clean Air Act Amendments of 1990 specifies that the meeting of the Ozone Transport Commission is not subject to the provisions of the Federal Advisory Committee Act. This meeting will be open to the public as space permits.

Type of Meeting: Open.

Agenda: Copies of the final agenda are available from the OTC office (202) 508-3840 (by e-mail: ozone@otcair.org or via our Web site at http://www.otcair.org).

Dated: October 20, 2003.
Donald S. Welsh,
Regional Administrator, Region III.

[FR Doc. 03-27030 Filed 10-24-03; 8:45 am]

BILLING CODE 6560-50-P